DEPARTMENT OF DEFENSE

Office of the Secretary

Submission for OMB Review; Comment Request

ACTION: Notice.

The Department of Defense has submitted to OMB for clearance, the following proposal for collection information under the provisions of the Paperwork Reduction Act (44 U.S.C. Chapter 35).

Title, Form Number, and OMB Number: Statement of Claimant Requesting Recertified Check; DD Form 2660; OMB Number 0730-0002.

Type of Request: Reinstatement.

Number of Respondents: 108,500.

Responses per Respondent: 1.

Annual Responses: 108,500.

Average Burden per Response: 5 minutes.

Annual Burden Hours: 9,042.

Needs and Uses: The Statement of Claimant Requesting Recertified Check is used to ascertain pertinent information needed by the Department of Defense in order to reissue checks to payees. A check will be reissued if the check has not been negotiated to financial institutions within one year of the date of issuance, when an original check has been lost, not received, damaged, stolen, etc. The form will be completed by the payee who was issued the original check.

Affected Public: Individuals or Households; Business or Other For-Profit; Not-For-Profit Institutions; State, Local or Tribal government.

Frequency: On Occasion.

Respondents Obligation: Required to obtain or retain benefits.

OMB Desk Officer: Mr. Edward C. Springer.

Written comments and recommendations on the proposed information collection should be sent to Mr. Springer at the Office of Management and Budget, Desk Officer for DoD, Room 10236, New Executive Office Building, Washington, DC 20503.

DOD Clearance Officer: Mr. Robert Cushing.

Written requests for copies of the information collection proposal should be sent to Mr. Cushing, WHS/DIOR, 1215 Jefferson Davis Highway, Suite 1204, Arlington, VA 22202-4302.

Dated: March 2, 2001.
Patricia L. Toppings,
Alternate OSD Federal Register Liaison Officer, Department of Defense.

[FR Doc. 01-5662 Filed 3-7-01; 8:45 am]

BILLING CODE 5001-10-M